DEPARTMENT OF COMMERCE

Foreign-Trade Zones Board

[B-40-2015]

Foreign-Trade Zone (FTZ) 27—Boston, Massachusetts, Notification of Proposed Production Activity, Claremont Flock, (Textile Flock), Leominster, Massachusetts

The Massachusetts Port Authority, grantee of FTZ 27, submitted a notification of proposed production activity to the FTZ Board on behalf of Claremont Flock, a division of Spectro Coating Corporation (Claremont Flock), located in Leominster, Massachusetts. The notification conforming to the requirements of the regulations of the FTZ Board (15 CFR 400.22) was received on June 1, 2015.

The Claremont Flock facility is located at 107 Scott Drive, Leominster, Massachusetts. A separate application for subzone designation at the Claremont Flock facility has been submitted and will be processed under Section 400.25 of the FTZ Board's regulations. The facility is used for the production of acrylic and rayon textile flock. Pursuant to 15 CFR 400.14(b) of the regulations, FTZ activity would be limited to the specific foreign-status materials and components and specific finished products described in the submitted notification (as described below) and subsequently authorized by the FTZ Board.

Production under FTZ procedures could exempt Claremont Flock from customs duty payments on foreign status materials used in export production. On its domestic sales, Claremont Flock would be able to choose the duty rate during customs entry procedures that applies to textile flock (free) for the acrylic and rayon tow (duty rate—7.5%) sourced from abroad. Customs duties also could possibly be deferred or reduced on foreign status production equipment.

Public comment is invited from interested parties. Submissions shall be addressed to the FTZ Board's Executive Secretary at the address below. The closing period for their receipt is July 29, 2015.

A copy of the notification will be available for public inspection at the Office of the Executive Secretary, Foreign-Trade Zones Board, Room 21013, U.S. Department of Commerce, 1401 Constitution Avenue NW., Washington, DC 20230-0002, and in the “Reading Room” section of the FTZ Board's Web site, which is accessible via www.trade.gov/ftz.

FOR FURTHER INFORMATION CONTACT: Pierre Duy at Pierre.Duy@trade.gov or (202) 482-1378.

Dated: June 12, 2015.
Elizabeth Whiteman,
Acting Executive Secretary.

[FR Doc. 2015-15148 Filed 6-18-15; 8:45 am]

BILLING CODE 3510-DS-P